DEPARTMENT OF ENERGY

Federal Energy Regulatory Commission

[Docket No. RP98-18-004]

Iroquois Gas Transmission System, L.P.; Notice of Proposed Changes in FERC Gas Tariff

May 4, 2000.

Take notice that on May 1, 2000, Iroquois Gas Transmission System, L.P. tendered for filing Second Revised Sheet No. 6. Iroquois requests that the Commission approve the tariff sheets effective May 1, 2000.

Iroquois states that the revised tariff sheets reflect a negotiated rate between Iroquois and Duke Energy Trading and Marketing, LLC for transportation under Rate Schedule RTS beginning on May 1, 2000 through November 1, 2000.

Iroquois states that copies of its filing were served on all jurisdictional customers and interested state regulatory agencies and all parties to the proceeding.

Any person desiring to be heard or to protest said filing should file a motion to intervene or a protest with the Federal Energy Regulatory Commission, 888 First Street, N.E., Washington, D.C. 20426, in accordance with Sections 385.214 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. Copies of this filing are on file with the Commission and are available for public inspection in the Public Reference Room. This filing may be viewed on the web at http://www.ferc.fed.us/online/rims.htm (call 202-208-2222 for assistance).

David P. Boergers,
Secretary.

[FR Doc. 00-11631 Filed 5-9-00; 8:45 am]

BILLING CODE 6717-01-M